DEPARTMENT OF LABOR

Employment and Training Administration

[TA-W-58,937]

Rexam, Inc., D/B/A Precise Technology PGH Tool Shop, North Versailles, PA; Notice of Revised Determination on Reconsideration

On June 14, 2006, the Department issued an Affirmative Determination Regarding Application on Reconsideration applicable to workers and former workers of the subject firm. The notice was published in the Federal Register on June 26, 2006 (71 FR 36365).

The previous investigation initiated on March 1, 2006, resulted in a negative determination issued on April 6, 2006, based on the finding that imports of injection molded products did not contribute importantly to worker separations at the subject firm and no shift of production to a foreign source occurred. The denial notice was published in the Federal Register on April 18, 2006 (71 FR 19900).

To support the request for reconsideration, the petitioner supplied additional information regarding production at the Tool Shop at the subject facility and company imports of like or directly competitive products with those produced at the Tool Shop. Upon further contact with the subject firm's company official, it was revealed that workers employed at the Tool Shop manufactured injection tools and were separately identifiable from other workers at the subject firm.

Having conducted a detailed investigation on reconsideration, it was revealed that the subject firm ceased production of injection tools manufactured by the Tool Shop, while increasing its reliance on imports of injection tools during the relevant time period.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Rexam, Inc., d/b/a Precise Technology, Pgh Tool Shop, contributed importantly to the declines in sales or production and to the total or partial separation of workers at the subject firm. In accordance with the provisions of the Act, I make the following certification:

All workers of Rexam, Inc., d/b/a Precise Technology, Pgh Tool Shop, engaged in the production of injection tools, who became totally or partially separated from employment on or after February 28, 2005 through two years from the date of this certification, are eligible to apply for adjustment assistance under section 223 of the Trade Act of 1974, and are eligible to apply for alternative trade adjustment assistance under section 246 of the Trade Act of 1974.

Signed in Washington, DC, this 28th day of September, 2006.
Elliott S. Kushner
Certifying Officer, Division of Trade Adjustment Assistance.

[FR Doc. E6-17103 Filed 10-13-06; 8:45 am]

BILLING CODE 4510-30-P